DEPARTMENT OF THE INTERIOR

National Park Service

CORRECTION—Notice of Intent To Repatriate Cultural Items from Kawaihae, Kohala, Island of Hawaii, HI, in the Possession of the Bernice Pauahi Bishop Museum, Honolulu, HI

AGENCY: National Park Service, Interior.

ACTION: Notice.

Notice is hereby given under the Native American Graves Protection and Repatriation Act, 43 CFR 10.10 (a)(3), of the intent to repatriate cultural items in the possession of the Bernice Pauahi Bishop Museum, Honolulu, HI, that meet the definition of “unassociated funerary objects” under Section 2 of the Act.

This notice corrects a typographic error in paragraph 15 of the notice of Intent to Repatriate published April 5, 2000. Paragraph 15 of the April 5, 2000, notice is corrected by substituting the following paragraph:

The 20 cultural items include samples of cordage, mat, and bark cloth. In 1985, these cultural items from a lava tube complex in Kawaihae, Kohala, HI were donated to the Bernice Pauahi Bishop Museum by Catherine Summers, who compiled these samples from museum collections.

This notice also corrects the list of culturally affiliated groups cited in the Notice of Intent to Repatriate published April 5, 2000. The list of culturally affiliated groups is corrected by adding the following groups: the Kekumano ‘Ohana, the Keohokalole ‘Ohana, the Hawaiian Genealogy Society, Na Papa Kanaka O Pu‘ukohola Heiau, the Native Hawaiian Advisory Council, the Pu‘uhonua O Waimanalo, the Royal Hawaiian Academy of Traditional Arts, the Nation of Hawai‘i, and the Van Horn Diamond ‘Ohana. Paragraph 17 of the April 5, 2000, notice is corrected by substituting the following paragraph:

Based on the above mentioned information, officials of the Bernice Pauahi Bishop Museum have determined that, pursuant to 43 CFR 10.2(d)(2)(ii), these 168 cultural items are reasonably believed to have been placed with or near individual human remains at the time of death or later as part of the death rite or ceremony and are believed, by a preponderance of the evidence, to have been removed from a specific burial site of an Native American individual. Officials of the museum also have determined that, pursuant to 43 CFR 10.2 (e), there is a relationship of shared group identity which can be reasonably traced between these items and the Hawai‘i Island Burial Council, Hui Malama I Na Kupuna O Hawai‘i Nei, the Department of Hawaiian Homelands, and the Office of Hawaiian Affairs, the Kekumano ‘Ohana, the Keohokalole Ohana, the Hawaiian Genealogy Society, Na Papa Kanaka O Pu‘ukohola Heiau, the Native Hawaiian Advisory Council, the Pu‘uhonua O Waimanalo, the Royal Hawaiian Academy of Traditional Arts, the Nation of Hawai‘i, and the Van Horn Diamond ‘Ohana.

Finally, this notice corrects the list of organizations to which this notice is sent by deleting Henry A. Auwae and Melvin Kalahiki, Jr., adding the groups listed above, providing new contact information, and providing a new response date. The last paragraph of the April 5, 2000, notice is corrected by substituting the following paragraph: This notice has been sent to officials of the Hawai‘i Island Burial Council, Hui Malama I Na Kupuna O Hawai‘i Nei, the Department of Hawaiian Homelands, the Office of Hawaiian Affairs, the Kekumano ‘Ohana, the Keohokalole ‘Ohana, the Hawaiian Genealogy Society, Na Papa Kanaka O Pu‘ukohola Heiau, the Native Hawaiian Advisory Council, the Pu‘uhonua O Waimanalo, the Royal Hawaiian Academy of Traditional Arts, the Nation of Hawai‘i, and the Van Horn Diamond ‘Ohana. Representatives of any other Indian tribe that believes itself to be culturally affiliated with these human remains and objects should contact Guy Kaulukukui, Assistant NAGPRA Program Manager, Bernice Pauahi Bishop Museum, 1525 Bernice Street, Honolulu, HI 96817, telephone (808) 847-8274, before April 9, 2001. Repatriation of these objects to the Hawai‘i Island Burial Council, Hui Malama I Na Kupuna O Hawai‘i Nei, the Department of Hawaiian Homelands, the Office of Hawaiian Affairs, the Kekumano ‘Ohana, the Keohokalole ‘Ohana, the Hawaiian Genealogy Society, Na Papa Kanaka O Pu‘ukohola Heiau, the Native Hawaiian Advisory Council, the Pu‘uhonua O Waimanalo, the Royal Hawaiian Academy of Traditional Arts, the Nation of Hawai‘i, and the Van Horn Diamond ‘Ohana may begin after that date if no additional claimants come forward.

Dated: February 23, 2001.
John Robbins,
Assistant Director, Cultural Resources Stewardship and Partnerships.

[FR Doc. 01-5941 Filed 3-8-01; 8:45 am]

BILLING CODE 4310-70-F